DEPARTMENT OF TRANSPORTATION

Federal Aviation Administration

14 CFR Part 39

[Docket No. FAA-2008-0302; Directorate Identifier 2007-NM-323-AD; Amendment 39-15689; AD 2008-21-05]

RIN 2120-AA64

Airworthiness Directives; Boeing Model 767-200, -300, and -400ER Series Airplanes

AGENCY: Federal Aviation Administration (FAA), Department of Transportation (DOT).

ACTION: Final rule.

SUMMARY: The FAA is superseding an existing airworthiness directive (AD), which applies to certain Boeing Model 767-200, -300, and -400ER series airplanes. That AD currently requires an inspection to determine if the door-mounted escape slide/rafts have certain part numbers. This new AD does not retain that requirement. This new AD continues to require an inspection for excessive tension of the firing cable, and procedures for providing slack in the firing cable or rerouting the firing cable if necessary. For certain airplanes, this new AD also requires a review of the airplane maintenance records to determine if a certain service bulletin has been incorporated, or an inspection to determine if certain door-mounted escape slide/rafts are installed. This new AD also requires modification of certain escape slide/rafts. This AD results from reports of uncommanded inflation inside the airplane of a door-mounted escape slide/raft located in the passenger compartment. We are issuing this AD to prevent injury to maintenance personnel, passengers, and crew during otherwise normal operating conditions and to prevent interference with evacuation of the airplane during an emergency, due to uncommanded inflation of a door-mounted escape slide/raft.

DATES: This AD becomes effective November 13, 2008.

The Director of the Federal Register approved the incorporation by reference of a certain publication listed in the AD as of November 13, 2008.

On June 30, 2005 (70 FR 34638, June 15, 2005), the Director of the Federal Register approved the incorporation by reference of a certain other publication.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Keith Ladderud, Aerospace Engineer, Cabin Safety and Environmental Systems Branch, ANM-150S, FAA, Seattle Aircraft Certification Office, 1601 Lind Avenue, SW., Renton, Washington 98057-3356; telephone (425) 917-6435; fax (425) 917-6590.

SUPPLEMENTARY INFORMATION:

Discussion

The FAA issued a notice of proposed rulemaking (NPRM) to amend 14 CFR part 39 to include an AD that supersedes AD 2005-12-14, amendment 39-14130 (70 FR 34638, June 15, 2005). The existing AD applies to certain Boeing Model 767-200, -300, and -400ER series airplanes. That NPRM was published in the Federal Register on March 18, 2008 (73 FR 14405). That NPRM proposed to continue to require an inspection to determine if the door-mounted escape slide/rafts have certain part numbers. For those door-mounted escape slide/rafts having certain part numbers, the NPRM also proposed to continue to require an inspection for excessive tension of the firing cable, and procedures for providing slack in the firing cable or rerouting the firing cable if necessary. For certain airplanes, the NPRM also proposed to require a review of the airplane maintenance records to determine if a certain service bulletin has been incorporated, or an inspection to determine if certain door-mounted escape slide/rafts are installed. The NPRM also proposed to require modification of certain escape slide/rafts.

Comments

We provided the public the opportunity to participate in the development of this AD. We have considered the comments that have been received on the NPRM.

Request To Refer to Certain Part Numbers (P/Ns) in the Applicability

Boeing requests that we revise the applicability to Boeing Model 767-200, -300, and -400ER series airplanes, certificated in any category; as identified in Boeing Alert Service Bulletin 767-25A0395, dated August 31, 2006; equipped with Goodrich door-mounted slide/rafts having P/Ns 5A3294-1, 5A3294-2, 5A3295-1, or 5A3295-3. As justification, Boeing states that this change clarifies that this AD applies only to certain Goodrich door-mounted slides/rafts. Boeing also states the applicability of the NPRM, as written, might require an alternative method of compliance (AMOC) for airplanes having other door-mounted slides/rafts.

We agree to revise the applicability of this AD as requested by Boeing for the reasons stated above, except that paragraph (c) of this AD refers to Revision 1 of the service bulletin, dated January 25, 2007. Since we have added the affected part numbers for the discrepant door-mounted slides/rafts to the applicability of this AD, it is no longer necessary to require the inspection to determine the part numbers as specified in paragraph (f) of the NPRM. Therefore, we have deleted that action and reidentified the subsequent paragraphs of this AD accordingly.

Request To Delete Certain Airplanes From the Applicability

Florida West International Airways states that this AD does not apply to Model 767-300GMF airplanes.

We infer that the commenter requests that we delete that model designation from the applicability of this AD. We disagree because that model designation is not identified in the applicability of this AD. Model “767-300GMF” is not a valid designation as specified on the type certificate data sheet (TCDS) for Model 767 airplanes. Therefore, the commenter should verify the airplane identification as listed on the airplane data plate. This information will allow the commenter to determine whether this AD is applicable to its airplanes. We have not changed the AD in this regard.

Request To Revise Paragraph (k)(1) of the NPRM

Boeing requests that we revise paragraph (k)(1) of the NPRM as follows: “* * * Determine if any door-mounted escape slide/raft having P/N 5A3294-1, 5A3294-2, 5A3295-1, or 5A3295-3 is installed; by review of the airplane maintenance records, or by a general visual inspection and modify the escape slide/rafts. Note the above slide/rafts may have been installed by Boeing Service Bulletin 767-25-0266.” Boeing points out that this request also removes the following statement: “Doing the inspection before the effective date of this AD in accordance with paragraph (f)(1) of this AD is acceptable for compliance with the inspection specified in this paragraph.” As justification, Boeing states that its suggested changes focus the reader on the specific part numbers to be modified and assures that the escape slide/rafts inspected prior to the effective date of this new AD are modified.

We agree to delete the second sentence of paragraph (k)(1) of the NPRM, since it is no longer necessary to provide relief for operators who, in accordance with paragraph (f)(1) of AD 2005-12-14, have previously inspected to determine if the discrepant slides/rafts are installed. However, we disagree with revising the first sentence of paragraph (k)(1) of the NPRM because Boeing's suggested changes and the language used in paragraph (j)(1) of this AD have essentially the same meaning. (As stated previously, paragraph (k) of the NPRM is reidentified as paragraph (j) in this AD.) Further, the language that we use is similar to what is stated in the Accomplishment Instructions of Boeing Alert Service Bulletin 767-25A0395, Revision 1.

Conclusion

We have carefully reviewed the available data, including the comments that have been received, and determined that air safety and the public interest require adopting the AD with the changes described previously. We have determined that these changes will neither increase the economic burden on any operator nor increase the scope of the AD.

Costs of Compliance

There are about 1,225 airplanes of the affected design in the worldwide fleet. This AD affects about 355 airplanes of U.S. registry.

The actions that are required by AD 2005-12-14 and retained in this AD take up to 6 work hours per airplane, at an average labor rate of $80 per work hour. Based on these figures, the estimated cost of the currently required actions for U.S. operators is $170,400, or is $480 per airplane.

The new required actions take up to 6 work hours per airplane, at an average labor rate of $80 per work hour. The parts manufacturer states that it will supply the required parts to operators at no cost. Based on these figures, the estimated cost of the new actions specified in this AD for U.S. operators is $170,400, or $480 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14130 (70 FR 34638, June 15, 2005) and by adding the following new airworthiness directive (AD):

2008-21-05 Boeing: Amendment 39-15689. Docket No. FAA-2008-0302; Directorate Identifier 2007-NM-323-AD.

Effective Date

(a) This AD becomes effective November 13, 2008.

Affected ADs

(b) This AD supersedes AD 2005-12-14.

Applicability

(c) This AD applies to Boeing Model 767-200, -300, and -400ER series airplanes, certificated in any category; as identified in Boeing Alert Service Bulletin 767-25A0395, Revision 1, dated January 25, 2007; equipped with Goodrich door-mounted escape slide/rafts having part numbers (P/N) 5A3294-1, 5A3294-2, 5A3295-1, or 5A3295-3.

Unsafe Condition

(d) This AD results from reports of uncommanded inflation inside the airplane of a door-mounted escape slide/raft located in the passenger compartment. We are issuing this AD to prevent injury to maintenance personnel, passengers, and crew during otherwise normal operating conditions and to prevent interference with evacuation of the airplane during an emergency, due to uncommanded inflation of a door-mounted escape slide/raft.

Compliance

(e) You are responsible for having the actions required by this AD performed within the compliance times specified, unless the actions have already been done.

Restatement of Certain Requirements of AD 2005-12-14

Inspection for Excessive Tension on the Firing Cable

(f) If any door-mounted escape slide/raft having any part number specified in paragraph (c) of this AD is installed: Within 30 days after June 30, 2005 (the effective date of AD 2005-12-14), perform a tension check on the firing cable of the slide/raft, in accordance with Boeing Alert Service Bulletin 767-25A0390, dated May 13, 2005. If no excessive tension is detected, no further action is required by this AD, except for the requirements of paragraph (i) of this AD.

Note 1: Boeing Alert Service Bulletin 767-25A0390, dated May 13, 2005, references Goodrich Alert Service Bulletin 5A3294/5A3295-25A356, dated May 11, 2005, as an additional source of service information.

Corrective Action for Excessive Tension on the Firing Cable

(g) If any excessive tension of the firing cable is detected, before further flight, do the applicable corrective actions in accordance with the Boeing Alert Service Bulletin 767-25A0390, dated May 13, 2005.

Previous Accomplishment

(h) Inspections of the firing cables for excessive tension in accordance with Boeing Alert Service Bulletin 767-25A0390, dated May 13, 2005, that were accomplished before June 30, 2005, are acceptable for compliance with the requirements of paragraph (f) of this AD, provided that any applicable corrective action was completed.

Parts Installation

(i) As of June 30, 2005, no person may install on any airplane any Goodrich door-mounted escape slide/raft having P/N 5A3294-1, 5A3294-2, 5A3295-1, or 5A3295-3, unless the tension of the firing cable has been checked and the applicable corrective action completed in accordance with Boeing Alert Service Bulletin 767-25A0390, dated May 13, 2005, or the escape slide/raft has been repacked in accordance with Goodrich Packing Instructions, Evacuation Slide/Raft, Document 501636, Revision G, dated May 16, 2005; Goodrich Packing Instructions, Evacuation Slide/Raft, LH, Document 501637, Revision E, dated May 16, 2005; or Goodrich Packing Instructions, Evacuation Slide/Raft, RH, Document 501638, Revision D, dated May 16, 2005; as applicable.

New Requirements of This AD

Modification

(j) Within 36 months after the effective date of this AD, do the applicable actions specified in paragraph (j)(1) or (j)(2) of this AD, by accomplishing all of the applicable actions specified in the Accomplishment Instructions of the Boeing Alert Service Bulletin 767-25A0395, Revision 1, dated January 25, 2007.

(1) For Groups 1 and 2 airplanes as identified in the service bulletin: Review the airplane maintenance records to determine if Boeing Service Bulletin 767-25-0266 has been incorporated, or do a general visual inspection to determine if any door-mounted escape slide/raft having P/N 5A3294-1, 5A3294-2, 5A3295-1, or 5A3295-3 is installed, and before further flight do all the applicable corrective actions.

(2) For Groups 3, 4, 5, and 6 airplanes as identified in the service bulletin: Modify the escape slide/rafts.

Note 2: Boeing Alert Service Bulletin 767-25A0395, Revision 1, refers to Goodrich Service Bulletin 5A3294/5A3295-25-362, dated July 25, 2006, as an additional source of service information for modifying a door-mounted escape slide/raft.

Alternative Methods of Compliance (AMOCs)

(k)(1) The Manager, Seattle Aircraft Certification Office (ACO), FAA, ATTN: Keith Ladderud, Aerospace Engineer, Cabin Safety and Environmental Systems Branch, ANM-150S, FAA, Seattle ACO, 1601 Lind Avenue, SW., Renton, Washington 98057-3356; telephone (425) 917-6435; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2005-12-14 are approved as AMOCs for the corresponding provisions of paragraphs (f), (g), (h), (i), and (j) of this AD.

Material Incorporated by Reference

(l) You must use Boeing Alert Service Bulletin 767-25A0390, dated May 13, 2005; and Boeing Alert Service Bulletin 767-25A0395, Revision 1, dated January 25, 2007; as applicable; to perform the actions that are required by this AD, unless the AD specifies otherwise.

(1) The Director of the Federal Register approved the incorporation by reference of Boeing Alert Service Bulletin 767-25A0395, Revision 1, dated January 25, 2007, in accordance with 5 U.S.C. 552(a) and 1 CFR part 51.

(2) On June 30, 2005 (70 FR 34638, June 15, 2005), the Director of the Federal Register approved the incorporation by reference of Boeing Alert Service Bulletin 767-25A0390, dated May 13, 2005.

(3) Contact Boeing Commercial Airplanes, P.O. Box 3707, Seattle, Washington 98124-2207, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on September 26, 2008.
Michael Kaszycki,
Acting Manager, Transport Airplane Directorate, Aircraft Certification Service.

[FR Doc. E8-23667 Filed 10-8-08; 8:45 am]

BILLING CODE 4910-13-P